DEPARTMENT OF AGRICULTURE

Forest Service

36 CFR Part 242

DEPARTMENT OF THE INTERIOR

Fish and Wildlife Service

50 CFR Part 100

[Docket No. FWS-R7-SM-2018-0013; FF07J00000-245-FXFR13350700640]

RIN 1018-BC96

Subsistence Management Regulations for Public Lands in Alaska—Applicability and Scope; Tongass National Forest Submerged Lands

AGENCY: Forest Service, Agriculture; Fish and Wildlife Service, Interior.

ACTION: Final rule.

SUMMARY: To comply with a court order, the Secretaries, through the Federal Subsistence Board (Board), initiated regulatory proceedings to identify those submerged lands within the Tongass National Forest that did not pass to the State of Alaska at statehood and, therefore, remain Federal public lands subject to Federal subsistence provisions. This rule adds to the list of submerged parcels in the Federal subsistence regulations that have been identified through agency review. The purpose of this rule is to complete regulatory proceedings addressing submerged public lands within the Tongass National Forest, as directed by the Court, and will result in increased subsistence harvest opportunities for rural Alaskans. This final rule will also make nonsubstantive changes to present the list of submerged parcels in a tabular format.

DATES: This rule is effective April 3, 2024.

ADDRESSES: Information regarding this final rule, including the Board meeting transcripts, are available for review at the Office of Subsistence Management, 1011 East Tudor Road, Mail Stop 121, Anchorage, AK 99503, or on the Office of Subsistence Management website (https://www.doi.gov/subsistence/board).

FOR FURTHER INFORMATION CONTACT: Chair, Federal Subsistence Board, c/o U.S. Fish and Wildlife Service, Attention: Assistant Regional Director, Office of Subsistence Management; (907) 786-3888 or subsistence@fws.gov. For questions specific to National Forest System lands, contact Gregory Risdahl, Regional Subsistence Program Leader, USDA, Forest Service, Alaska Region; (907) 302-7354 or gregory.risdahl@usda.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Under title VIII of the Alaska National Interest Lands Conservation Act (ANILCA) (16 U.S.C. 3111-3126), the Secretary of the Interior and the Secretary of Agriculture (Secretaries) jointly implement the Federal Subsistence Management Program (Program). The Program provides a preference for take of fish and wildlife resources for subsistence uses by rural residents on Federal public lands and waters in Alaska. The Secretaries published temporary regulations to carry out the Program in the Federal Register on June 29, 1990 (55 FR 27114), and published final regulations in the Federal Register on May 29, 1992 (57 FR 22940). These regulations have subsequently been amended a number of times. Because the Program is a joint effort between Interior and Agriculture, these regulations are located in two titles of the Code of Federal Regulations (CFR): Title 36, “Parks, Forests, and Public Property,” and Title 50, “Wildlife and Fisheries,” at 36 CFR 242.1-242.28 and 50 CFR 100.1-100.28, respectively. The regulations contain subparts as follows: Subpart A, General Provisions; Subpart B, Program Structure; Subpart C, Board Determinations; and Subpart D, Subsistence Taking of Fish and Wildlife.

Consistent with subpart B of these regulations, the Secretaries established a Federal Subsistence Board (Board) to administer the Program. The Board comprises:

• A Chair appointed by the Secretary of the Interior with concurrence of the Secretary of Agriculture;

• The Alaska Regional Director, U.S. Fish and Wildlife Service;

• The Alaska Regional Director, National Park Service;

• The Alaska State Director, Bureau of Land Management;

• The Alaska Regional Director, Bureau of Indian Affairs;

• The Alaska Regional Forester, USDA Forest Service; and

• Two public members appointed by the Secretary of the Interior with concurrence of the Secretary of Agriculture.

Through the Board, these agencies participate in the development of regulations for subparts C and D, which, among other things, set forth Program eligibility and specific harvest seasons and limits.

In administering the Program, the Secretaries divided Alaska into 10 subsistence resource regions, each of which is represented by a Federal Subsistence Regional Advisory Council (Council). The Councils provide a forum for rural residents with personal knowledge of local conditions and resource requirements to have a meaningful role in the subsistence management of fish and wildlife on Federal public lands in Alaska. The Council members represent varied geographical, cultural, and user interests within each region.

Jurisdictional Background and Perspective

The U.S. District Court for Alaska (Court) in its October 17, 2011, order in Peratrovich et al. v. United States and the State of Alaska, 3:92-cv-0734-HRH (D. Alaska), enjoined the United States “to promptly initiate regulatory proceedings for the purpose of implementing the subsistence provisions in Title VIII of the Alaska National Interest Lands Conservation Act (ANILCA) with respect to submerged public lands within Tongass National Forest” and directed entry of judgment. The Peratrovich case dates to 1992 and has a long and involved procedural history. The plaintiffs in that litigation raised the question of which marine waters in the Tongass National Forest, if any, are subject to the jurisdiction of the Federal Subsistence Management Program. In its May 31, 2011, order, the Court stated that “it is the duty of the Secretaries [Agriculture & Interior] to identify any submerged lands (and the marine waters overlying them) within the Tongass National Forest to which the United States holds title.” It also stated that, if such title exists, it “creates an interest in [the overlying] waters sufficient to make those marine waters public lands for purposes of [the subsistence provisions] of ANILCA.”

Most of the marine waters within the Tongass National Forest were not initially identified in the regulations as public lands subject to the subsistence priority, initially based upon a determination that the submerged lands were State lands, and later through reliance upon a disclaimer of interest filed by the United States in Alaska v. United States, No. 128 Orig., 546 U.S. 413 (2006). In that case, the State of Alaska had sought to quiet title to all lands underlying marine waters in southeast Alaska, which includes most of the Tongass National Forest. Ultimately, the United States disclaimed ownership to most of the submerged lands in the Tongass National Forest. The Supreme Court accepted the disclaimer by the United States to title to the marine waters within the Tongass National Forest, excepting from that disclaimer several classes of submerged public lands that generally involve small tracts (see Alaska v. United States, 546 U.S. at 415).

When the United States took over subsistence management in Alaska in 1990 and promulgated the temporary regulations, the Departments of the Interior and Agriculture stated in response to comments on the scope of the program that “[t]he United States generally does not hold title to navigable waters and thus navigable waters generally are not included within the definition of public lands” (55 FR 27114 at 27115; June 29, 1990). That position was changed in 1999 when the subsistence priority was extended to inland waters subject to a Federal reserved water right following the Katie John litigation. While locating these inland waters, the Board also identified certain submerged marine lands that did not pass to the State and, therefore, were subject to the subsistence priority. However, the Board did not attempt to identify every small parcel of submerged public lands and associated marine waters possibly subject to the Program because of the potentially overwhelming administrative burden. Instead, the Board invited the public to petition to have submerged marine lands included. Over the years, several small areas of submerged marine lands in the Tongass National Forest have been identified as public lands subject to the subsistence priority.

In its May 31, 2011, order, the Court in the Peratrovich case stated that the petition process was not sufficient and found that “concerns about costs and management problems simply cannot trump the congressional policy that the subsistence lifestyle of rural Alaskans be preserved as to public lands.” The Court acknowledged in its order that inventorying all these lands could be an expensive undertaking, but that it is a burden “necessitated by the `complicated regulatory scheme' which has resulted from the inability of the State of Alaska to implement Title VIII of ANILCA.” The Court then enjoined the United States “to promptly initiate regulatory proceedings for the purpose of implementing the subsistence provisions in Title VIII of ANILCA with respect to submerged public lands within Tongass National Forest” and directed entry of judgment.

Following the Court's decision, the Departments published a notice in the Federal Register (77 FR 33391; June 6, 2012) announcing the initiation of reviews of pre-statehood withdrawals and reservation in the Tongass National Forest. The Bureau of Land Management (BLM) and the USDA-Forest Service (USDA-FS) started a review of hundreds of potential pre-statehood (January 3, 1959) withdrawals in the marine waters of the Tongass National Forest. These reviews included dock sites, log transfer sites, and other areas that may not have passed to the State at statehood. On June 8, 2016, the Departments published a proposed rule in the Federal Register (81 FR 36836) that listed the initial findings identifying pre-statehood withdrawals, and on May 23, 2018, the Departments published a final rule (83 FR 23813) to revise the subsistence management regulations to add those submerged parcels. The Departments published another proposed rule on May 12, 2022 (87 FR 29061), with the intent to complete regulatory proceedings addressing submerged public lands within the Tongass National Forest as directed by the Court. This rule will complete those proceedings.

Current Rule

The Departments published a proposed rule on May 12, 2022 (87 FR 29061), to amend the applicability and scope section of subpart A of 36 CFR part 242 and 50 CFR part 100 and to complete the actions on the Tongass National Forest submerged lands. The proposed rule opened a comment period, which closed on August 10, 2022, and announced public meetings to be held in several different locations throughout the State. The Departments advertised the proposed rule by mail, email, web page, social media, radio, and newspaper, and comments were submitted via https://www.regulations.gov to Docket No. FWS-R7-SM-2018-0013. The Councils received public comments on the proposed rule during their public meetings. The Councils had an opportunity to review the proposed rule and make recommendations to the Board for the final rule as described in more detail below.

The Board held a public meeting on January 31 through February 3, 2023. All briefings and documents presented to the Board were available to the public at https://www.doi.gov/subsistence, and the meeting was advertised by mail, email, web page, social media, radio, and newspaper. After a briefing and deliberation, the Board decided on the following recommendation to the Secretaries: “The Federal Subsistence Board recommends to the Secretaries that the lands listed in the proposed rule of May 12, 2022 (87 FR 29061), be included in the Subsistence Management Regulations for Public Lands in Alaska (36 CFR [part] 242 and 50 CFR [part] 100) for the purpose of implementing the subsistence provisions in Title VIII of the Alaska National Interest Lands Conservation Act.”

These final regulations reflect the Board's recommendation to the Secretaries after review and consideration of Council recommendations, Tribal and Alaska Native corporation consultations, and public comments. The public received extensive opportunity to review and comment on all changes.

Summary of Comments Received and Responses

The Board did not receive any public comments that directly pertain to the primary issue of this rulemaking action. The Southeast Alaska Council did not object to these lands coming under Federal subsistence jurisdiction after maps were provided by the USDA-FS, as had been previously requested. The Southcentral Alaska, Kodiak/Aleutians, Bristol Bay, Yukon-Kuskokwim Delta, Western Interior Alaska, Seward Peninsula, Eastern Interior Alaska, and North Slope Councils had no comments and took no actions. The Kodiak/Aleutian Council requested that the Councils and the public be notified when the final rule has been published and that this information be posted on the Program's website.

Tribal consultation was offered statewide. No tribal entity requested specific consultation and no comments were offered via correspondence, during public hearings, or during consultations on different issues.

Summary of Changes From the Proposed Rule

Following publication of the proposed rule, the USDA-FS cartographer reviewed the table of geographic areas in the proposed rule and noted the following duplicate entries:

• High Point, Woronkofski Island;

• Key Reef, Clarence Strait;

• Lyman Point, Clarence Strait;

• Ship Island, Clarence Strait; and

• Point Hilda, Stephens Passage, Douglas Island.

Accordingly, in this final rule, we have corrected the table of geographic areas by removing those duplicate entries.

Additionally, the latitude information for Lyman Point and Clarence Strait was also revised because the original latitude was inaccurate.

Because this rule concerns public lands managed by an agency or agencies in both the Departments of Agriculture and the Interior, identical text will be incorporated into 36 CFR part 242 and 50 CFR part 100.

Compliance With Statutory and Regulatory Authorities

Administrative Procedure Act

The Departments, through the Board, have provided extensive opportunity for public input and involvement in compliance with Administrative Procedure Act (5 U.S.C. 551 et seq.) requirements, including publishing a proposed rule in the Federal Register, participation in multiple Council meetings, additional public review and comment on all proposals for regulatory change, and an opportunity for additional public comment before the Board deliberated on its recommendation to the Secretaries. Therefore, the Departments believe that all affected persons have been given sufficient public notice and opportunity for involvement on the Board's recommendation and the final rule.

In the more than 30 years that the Program has been operating, there has never been a benefit to the public by delaying the effective date of the subsistence regulations. A lapse in regulatory control can affect the continued viability of fish or wildlife populations and future subsistence opportunities for rural Alaskans and would generally fail to serve the overall public interest. Therefore, the Departments finds good cause pursuant to 5 U.S.C. 553(d)(3) to make this rule effective upon the date set forth in DATES to ensure continued operation of the Program.

National Environmental Policy Act

A draft environmental impact statement that described four alternatives for developing a Federal Subsistence Management Program was distributed for public comment on October 7, 1991. The final environmental impact statement (FEIS) was published on February 28, 1992. The Record of Decision (ROD) on Subsistence Management for Federal Public Lands in Alaska was signed April 6, 1992. The selected alternative in the FEIS (Alternative IV) defined the administrative framework of an annual regulatory cycle for subsistence regulations.

The following Federal Register documents pertain to this rulemaking:

Subsistence Management Regulations for Public Lands in Alaska, Subparts A, B, and C: Federal Register Documents Pertaining to the Final Rule
Federal Register citation | Date of publication | Category | Details
57 FR 22940 | May 29, 1992 | Final Rule | “Subsistence Management Regulations for Public Lands in Alaska; Final Rule” was published in the Federal Register.
64 FR 1276 | January 8, 1999 | Final Rule | Amended the regulations to include subsistence activities occurring on inland navigable waters in which the United States has a reserved water right and to identify specific Federal land units where reserved water rights exist. Extended the Federal Subsistence Board's management to all Federal lands selected under the Alaska Native Claims Settlement Act and the Alaska Statehood Act and situated within the boundaries of a Conservation System Unit, National Recreation Area, National Conservation Area, or any new national forest or forest addition, until conveyed to the State of Alaska or to an Alaska Native Corporation. Specified and clarified the Secretaries' authority to determine when hunting, fishing, or trapping activities taking place in Alaska off the public lands interfere with the subsistence priority.
66 FR 31533 | June 12, 2001 | Interim Rule | Expanded the authority that the Federal Subsistence Board may delegate to agency field officials and clarified the procedures for enacting emergency or temporary restrictions, closures, or openings.
67 FR 30559 | May 7, 2002 | Final Rule | Amended the operating regulations in response to comments on the June 12, 2001, interim rule (66 FR 31533). Also corrected some inadvertent errors and oversights of previous rules.
68 FR 7703 | February 18, 2003 | Direct Final Rule | Clarified the age a person must be to receive certain subsistence use permits and removed the requirement that Regional Advisory Councils must have an odd number of members.
68 FR 23035 | April 30, 2003 | Affirmation of Direct Final Rule | Because no adverse comments were received on the direct final rule (67 FR 30559; May 7, 2002), the direct final rule was adopted.
69 FR 60957 | October 14, 2004 | Final Rule | Clarified the membership qualifications for Regional Advisory Council membership and relocated the definition of “regulatory year” from subpart A to subpart D of the regulations.
70 FR 76400 | December 27, 2005 | Final Rule | Revised jurisdiction in marine waters and clarified jurisdiction relative to military lands.
71 FR 49997 | August 24, 2006 | Final Rule | Revised the jurisdiction of the subsistence program by adding submerged lands and waters in the area of Makhnati Island, near Sitka, AK. These revisions allowed subsistence users to harvest marine resources in this area under seasons, harvest limits, and methods specified in the regulations.
72 FR 25688 | May 7, 2007 | Final Rule | Revised nonrural determinations.
75 FR 63088 | October 14, 2010 | Final Rule | Amended the regulations for accepting and addressing special action requests and the role of the Regional Advisory Councils in the process.
76 FR 56109 | September 12, 2011 | Final Rule | Revised the composition of the Federal Subsistence Board by expanding the Board to include two public members who possess personal knowledge of and direct experience with subsistence uses in rural Alaska.
77 FR 12477 | March 1, 2012 | Final Rule | Extended the compliance date for the final rule (72 FR 25688; May 7, 2007) that revised nonrural determinations until the Secretarial review of the Program is complete or in 5 years, whichever comes first.
80 FR 68249 | November 4, 2015 | Final Rule | Revised the nonrural determination process and allowed the Federal Subsistence Board to define which communities and areas are nonrural.
83 FR 23813 | May 23, 2018 | Final Rule | Added submerged parcels to the subsistence regulations to ensure compliance with the October 7, 2011, Court order. Peratrovich et al. v. United States and the State of Alaska, 3:92-cv-0734-HRH (D. Alaska).

A 1997 environmental assessment dealt with the expansion of Federal jurisdiction over fisheries and is available at the office listed under FOR FURTHER INFORMATION CONTACT. The Secretary of the Interior, with concurrence of the Secretary of Agriculture, determined that expansion of Federal jurisdiction does not constitute a major Federal action significantly affecting the human environment and, therefore, signed a Finding of No Significant Impact.

Section 810 of ANILCA

An ANILCA section 810 analysis was completed as part of the FEIS process on the Federal Subsistence Management Program in the early 1990s. The intent of all Federal subsistence regulations is to accord subsistence uses of fish and wildlife on public lands a priority over the taking of fish and wildlife on such lands for other purposes, unless restriction is necessary to conserve healthy fish and wildlife populations. The final section 810 analysis determination appeared in the April 6, 1992, ROD and concluded that the Program, under Alternative IV with an annual process for setting subsistence regulations, may have some local impacts on subsistence uses, but will not likely restrict subsistence uses significantly.

In accordance with ANILCA section 810, an environmental assessment was prepared in 1997 on the expansion of Federal jurisdiction over fisheries. That evaluation also supported the Secretaries' determination that the rule will not reach the “may significantly restrict” threshold that would require notice and hearings under ANILCA section 810(a).

Paperwork Reduction Act of 1995

An agency may not conduct or sponsor and you are not required to respond to a collection of information unless it displays a currently valid Office of Management and Budget (OMB) control number. This rule does not contain any new collections of information that require OMB approval. OMB has reviewed and approved the collections of information associated with the subsistence regulations at 36 CFR part 242 and 50 CFR part 100, and assigned OMB Control Number 1018-0075, which expires January 31, 2024 (in accordance with regulations at 5 CFR 1320, the Services are authorized to continue sponsoring the collection while the submission is pending at OMB).

Regulatory Planning and Review (Executive Orders 12866, 13563, and 14904)

Executive Order 12866, as reaffirmed by E.O. 13563 and E.O. 14094 provides that the Office of Information and Regulatory Affairs (OIRA) in the Office of Management and Budget will review all significant rules. OIRA has determined that this rule is not significant.

Executive Order 14094 reaffirms the principles of E.O. 12866 and E.O. 13563 and states that regulatory analysis should facilitate agency efforts to develop regulations that serve the public interest, advance statutory objectives, and are consistent with E.O. 12866, E.O. 13563, and the Presidential Memorandum of January 20, 2021 (Modernizing Regulatory Review). E.O. 13563 emphasizes further that regulations must be based on the best available science and that the rulemaking process must allow for public participation and an open exchange of ideas. We have developed this rule in a manner consistent with these requirements.

Regulatory Flexibility Act

The Regulatory Flexibility Act of 1980 (5 U.S.C. 601 et seq.) requires preparation of regulatory flexibility analyses for rules that will have a significant effect on a substantial number of small entities, which include small businesses, organizations, or governmental jurisdictions. In general, the resources to be harvested under this rule are already being harvested and consumed by the local harvester and do not result in an additional dollar benefit to the economy. However, we estimate that two million pounds of meat are harvested by subsistence users annually and, if given an estimated dollar value of $3.00 per pound, this amount would equate to about $6 million in food value Statewide. Based upon the amounts and values cited above, the Departments certify that this rulemaking will not have a significant economic effect on a substantial number of small entities within the meaning of the Regulatory Flexibility Act.

Congressional Review Act

Under the Congressional Review Act (5 U.S.C. 804(2)), this rule is not a major rule. It does not have an effect on the economy of $100 million or more, will not cause a major increase in costs or prices for consumers, and does not have significant adverse effects on competition, employment, investment, productivity, innovation, or the ability of U.S.-based enterprises to compete with foreign-based enterprises.

Takings (Executive Order 12630)

Title VIII of ANILCA requires the Secretaries to administer a subsistence priority on public lands. The scope of the Program is limited by definition to certain public lands. Likewise, these regulations have no potential takings of private property implications as defined by Executive Order 12630.

Unfunded Mandates Reform Act

The Secretaries have determined and certify pursuant to the Unfunded Mandates Reform Act, 2 U.S.C. 1502 et seq., that this rulemaking will not impose a cost of $100 million or more in any given year on local or State governments or private entities. The implementation of this rule is by Federal agencies, and there is no cost imposed on any State or local entities or tribal governments.

Civil Justice Reform (Executive Order 12988)

The Secretaries have determined that these regulations meet the applicable standards provided in sections 3(a) and 3(b)(2) of E.O. 12988, regarding civil justice reform.

Federalism (Executive Order 13132)

In accordance with E.O. 13132, this rule does not have sufficient federalism implications to warrant the preparation of a federalism summary impact statement. Title VIII of ANILCA precludes the State from exercising subsistence management authority over fish and wildlife resources on Federal lands unless it meets certain requirements.

Consultation and Coordination With Indian Tribal Governments (Executive Order 13175)

The Alaska National Interest Lands Conservation Act, Title VIII, does not provide specific rights to tribes for the subsistence taking of wildlife, fish, and shellfish. However, the Departments, through the Board, provided Federally recognized Tribes and Alaska Native corporations opportunities to consult on this rule. Consultation with Alaska Native corporations are based on Public Law 108-199, div. H, Sec. 161, Jan. 23, 2004, 118 Stat. 452, as amended by Public Law 108-447, div. H, title V, Sec. 518, Dec. 8, 2004, 118 Stat. 3267, which provides that: “The Director of the Office of Management and Budget and all Federal agencies shall hereafter consult with Alaska Native corporations on the same basis as Indian tribes under Executive Order No. 13175.”

The Secretaries, through the Board, provided a variety of opportunities for consultation: commenting on proposed changes to the existing rule; engaging in dialogue at the Council meetings; engaging in dialogue at the Board's meetings; and providing input in person, by mail, email, or phone at any time during the rulemaking process.

The Board provided Federally recognized Tribes and Alaska Native corporations a specific opportunity to consult on this rule prior to the start of its public regulatory meeting held during January and February 2023. Federally recognized Tribes and Alaska Native corporations were notified by mail, email, and telephone and were given the opportunity to attend in person or via teleconference.

Energy Supply, Distribution or Use (Executive Order 13211)

Executive Order 13211 requires agencies to prepare Statements of Energy Effects when undertaking certain actions. However, this rule is not a significant regulatory action under E.O. 13211, affecting energy supply, distribution, or use, and no Statement of Energy Effects is required.

Drafting Information

Theo Matuskowitz drafted these regulations under the guidance of Amee Howard, Assistant Regional Director, Office of Subsistence Management, Alaska Regional Office, U.S. Fish and Wildlife Service, Anchorage, Alaska. Additional assistance was provided by

• Paul McKee, Alaska State Office, Bureau of Land Management;

• Dr. Kim Jochum, Alaska Regional Office, National Park Service;

• Dr. Glenn Chen, Alaska Regional Office, Bureau of Indian Affairs;

• Jill Klein, Alaska Regional Office, U.S. Fish and Wildlife Service; and

• Gregory Risdahl, Alaska Regional Office, USDA-Forest Service.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

Regulation Promulgation

For the reasons set out in the preamble, the Secretaries amend title 36, part 242, and title 50, part 100, of the Code of Federal Regulations, as set forth below.

PART __—SUBSISTENCE MANAGEMENT REGULATIONS FOR PUBLIC LANDS IN ALASKA

1. The authority citation for both 36 CFR part 242 and 50 CFR part 100 continues to read as follows:

Authority: 16 U.S.C. 3, 472, 551, 668dd, 3101-3126; 18 U.S.C. 3551-3586; 43 U.S.C. 1733.

Subpart A—General Provisions

2. Amend § __.3 by revising paragraph (b)(5)(ii) to read as follows:

§ __.3 Applicability and scope.

* * * * *

(b) * * *

(5) * * *

(ii) Tongass National Forest:

Table 1 to Paragraph (b)(5)(ii)
Name | Chart No. or meridian name | Area description | Longitude/ latitude
(A) Beacon Point, Frederick Sound, and Kupreanof Island | U.S. Coast and Geodetic Survey Chart No. 8210—Sheet No. 16 | The point begins on the low-water line at N 63° W, true and approximately 1,520 feet from Beacon Point beacon; thence due south true 1,520 feet; thence true east 1,800 feet, more or less to an intersection with a low-water line; thence following, is the low-water line round the point to the point of beginning. | Approx. Long. 133°00′ W Lat. 56°56¼′ N.
(B) Bushy Island and Snow Passage | U.S. Coast and Geodetic Survey Chart, labeled No. 8160—Sheet No. 12 | The reference location is marked as 64 south, 80 east, CRM, SEC. 31/32 on the map labeled, USS 1607. The point begins on a low-water line about ¼ nautical mile and southwesterly from the northwest point of the island, from which a left tangent to an island that is 300 yards in diameter and 100 yards offshore, bears the location—N 60° W, true; thence S 60° E, true and more or less 2,000 feet to an intersection with a low-water line on the easterly side of the island; thence forward along the winding of the low-water line northwesterly and southwesterly to the point of beginning, including all adjacent rocks and reefs not covered at low water. | Approx. Long. 132°58′ W Lat. 56°16½′ N.
(C) Cape Strait, Frederick Sound, and Kupreanof Island | U.S. Coast and Geodetic Survey Chart No. 8210—Sheet No. 16 | The reference location is marked as 56 south, 77478 east, CRM, on the map labeled as USS 1011. It begins at a point on a low-water line that is westerly from the lighthouse and distant 1,520 feet in a direct line from the center of the concrete pier upon which the light tower is erected; thence South 45° E, true by 1,520 feet; thence east true by 1,520 feet, more or less to an intersection with the low-water line; thence northwesterly and westerly, following the windings of the low-water line to the point of beginning. | Approx. Long. 133°05′ W Lat. 57°00′ N.
(D) Point Colpoys and Sumner Strait | U.S. Coast and Geodetic Survey Chart No. 8160—Prince of Wales Island—Sheet No. 12 | The reference location is marked as 64 south, 78 east, CRM, SECs. 10, 11, 12 on the map labeled as USS 1634. Location is north of a true east-and-west line running across the point to 1,520 feet true south from the high-water line at the northernmost extremity. Map includes all adjacent rocks and ledges not covered at low water and also includes two rocks awash about 1¼ nautical miles East and South and 75° East, respectively, from the aforementioned point. | Approx. Long. 133°12′ W Lat. 56°20′ N.
(E) Vank Island and Stikine Strait | U.S. Coast and Geodetic Survey Chart No. 8160—Sheet No. 18. Located at 62 south, 82 east, CRM, SEC 34, on the map labeled as USS 1648 | This part of the island is lying south of a true east-and-west line that is drawn across the island from low water to low water. Island is 760 feet due north from the center of the concrete pier upon which the structure for the light is erected. | Approx. Long. 132°35′ W Lat. 56°27′ N.
(F) High Point, Woronkofski Island | U.S. Coast and Geodetic Survey Chart No. 8160—Sheet No. 18 | The location begins at a point on low water at the head of the first bight easterly of the point and about ⅛ nautical mile distant therefrom; thence south true 1,520 feet; thence west true 1,100 feet, more or less to an intersection with the low-water line; thence northerly and easterly, following the windings of the low-water line to point of beginning. | Approx. Long. 132°33′ W Lat. 56°24′ N.
(G) Key Reef and Clarence Strait | U.S. Coast and Geodetic Survey Chart No. 8160—Sheet No. 11 | The reference location is marked as 66 south, 81 east, CRM, SEC 11. The reef lies 1¾ miles S 80° E, true, from Bluff Island and becomes awash at extreme high water. Chart includes all adjacent ledges and rocks not covered at low water. | Approx. Long. 132°50′ W Lat. 56°10′ N.
(H) Low Point, Zarembo Island | U.S. Coast and Geodetic Survey Chart No. 8160—Sheet No. 22 | The location begins at a point on a low-water line that is 760 feet in a direct line, easterly, from the center of Low Point Beacon. The position is located on a point of shoreline about 1 mile easterly from Low Point; thence S 35°, W true 760 feet; thence N 800 feet and W 760 feet, more or less, to an intersection with the low-water line to the point of beginning. | Approx. Long. 132°55½′ W Lat. 56°27½′ N.
(I) McNamara Point and Zarembo Island | U.S. Coast and Geodetic Survey Chart No. 8160—Sheet No. 25 | Location begins at a point on a low-water line that is 1,520 feet in a direct line, northerly, from McNamara Point Beacon—a slatted tripod structure; thence true east 1,520 feet; thence true south, more or less, 2,500 feet to an intersection with the low-water line; thence northwesterly and northerly following the windings of the low-water line to the point of beginning. | Approx. Long. 133°04′ W Lat. 56°20′ N.
(J) Mountain Point and Wrangell Narrows | U.S. Coast and Geodetic Survey Chart No. 8170—Sheet No. 27 | The location begins at a point on a low-water line southerly from the center of Mountain Point Beacon and distant there from 1,520 feet in a direct line; thence true west 1,520 feet; thence true north, more or less, 3,480 feet to an intersection with the low-water line; thence southeasterly and southerly following the windings of the low-water line to the point of beginning. | Approx. Long. 132°57½′ W Lat. 56°44′ N.
(K) Angle Point, Revillagigedo Channel, and Bold Island | U.S. Coast and Geodetic Survey Chart No. 8075—Sheet No. 3 | The reference location is marked as 76 south, 92 east, CRM, USS 1603. The location begins at a point on a low-water line abreast of the lighthouse on Angle Point, the southwestern extremity of Bold Island; thence easterly along the low-water line to a point that is 3,040 feet in a straight line from the beginning point; thence N 30° W True 3,040 feet; thence true west to an intersection with the low-water line, 3,000 feet, more or less; thence southeasterly along the low-water line to the point of beginning. | Approx. Long. 131°26′ W Lat. 55°14′ N.
(L) Cape Chacon, Dixon Entrance, and Prince of Wales Island | U.S. Coast and Geodetic Survey Chart No. 8074—Sheet No. 29 | The reference location is marked as 83 south, 89 and 90 east, CRM, USS 1608. The location begins at a point at the low-water mark on the shoreline of Dixon Entrance from which the southern extremity of Cape Chacon bears south 64° true east and approximately ¾ nautical miles; thence N 45° true east and about 1 nautical mile, more or less, to an intersection with a low-water line on the shore of Clarence Strait; thence southerly, following the meanderings of the low-water line of the shore, to and around Cape Chacon, and continuing to the point of beginning. Reference includes all adjacent islands, islets, rocks, and reefs that are not covered at the low-water line. | Approx. Long 132° W Lat. 54°42′ N.
(M) Lewis Reef and Tongass Narrows | U.S. Coast and Geodetic Survey Chart No. 8094—Sheet No. 71 | The reference location is marked as 75 south, 90 east, CRM, SEC 9. The area point begins at the reef off Lewis Point and partly bare at low water. This part of the reef is not covered at low water and lies on the northeast side of a true northwest-and-southeast line that is located 300 feet true southwest from the center of the concrete pier of Lewis Reef Light. | Approx. Long. 131°44½′ W Lat. 55°22′25″ N.
(N) Lyman Point and Clarence Strait | U.S. Coast and Geodetic Survey Chart No. 8076—Sheet No. 8 | The reference location is marked as 73 south, 86 east, CRM, SEC 13, on a map labeled as USS 2174 TRC. It begins at a point at the low-water mark. The aforementioned point is 300 feet in a direct line easterly from Lyman Point light; thence due south 300 feet; thence due west to a low-water mark 400 feet, more or less; thence following the winding of the low-water mark to the place of beginning. | Approx. Long. 132°18′ W Lat. 55°32′ N.
(O) Narrow Point, Clarence Strait, and Prince of Wales Island | U.S. Coast and Geodetic Survey Chart No. 8100—Sheet No. 9 | The reference location is marked as 70 south, 84 east, CRM, on a map labeled as USS 1628. The point begins at a point on a low-water line about 1 nautical mile southerly from Narrow Point Light, from which point a left tangent to a high-water line of an islet about 500 yards in diameter and about 300 yards offshore, bears south 30° true east; thence north 30° W, true 7,600 feet; thence N 60° E, 3,200 feet, more or less to an intersection with a low-water line; thence southeasterly, southerly, and southwesterly, following the winding of the low-water line to the point of beginning. The map includes all adjacent rocks not covered at low water. | Approx. Long. 132°28′ W Lat. 55°47½′ N.
(P) Niblack Point, Cleveland Peninsula, and Clarence Strait | U.S. Coast and Geodetic Survey Chart No. 8102—Sheet No. 6 | The location begins at a point on a low-water line from which Niblack Point Beacon, a tripod anchored to three concrete piers, bears southeasterly and is 1,520 feet in a direct line; thence true northeast 1,520 feet; thence true southeast 3,040 feet; thence true southwest at 600 feet, more or less, to an intersection with a low-water line; thence northwesterly following the windings of the low-water line to the point of beginning. | Approx. Long. 132°07′ W Lat. 55°33′ N.
(Q) Rosa Reef and Tongass Narrows | U.S. Coast and Geodetic Survey Chart No. 8094—Sheet No. 71 | The reference location is marked as 74 south, 90 east, CRM, SEC 31. That part of the reef is not covered at low water and lies east of a true north-and-south line, located 600 feet true west from the center of the concrete pier of Rosa Reef Light. The reef is covered at high water. | Approx. Long. 131°48′ W Lat. 55°24′15″ N.
(R) Ship Island and Clarence Strait | U.S. Coast and Geodetic Survey Chart No. 8100—Sheet No. 9 | The reference location is marked as 72 south, 86 east, CRM, SEC 27. The point begins as a small island on the northwesterly side of the Clarence Strait, about 10 nautical miles northwesterly from Caamano Point and ¼ mile off the shore of Cleveland Peninsula. The sheet includes all adjacent islets and rocks not connected to the main shore and not covered at low water. | Approx. Long. 132°12′ W Lat. 55°36′ N.
(S) Spire Island Reef and Revillagigedo Channel | U.S. Coast and Geodetic Survey Chart No. 8075—Sheet No. 3 | The reference location is marked as 76 south, 92 east, CRM, SEC 19. The detached reef, covered at high water and partly bare at low water, is located northeast of Spire Island. Spire Island Light is located on the reef and consists of small houses and lanterns surmounting a concrete pier. | Approx. Long 131°30′ W Lat. 55°16′ N.
(T) Surprise Point and Nakat Inlet | U.S. Coast and Geodetic Survey Chart No. 8051—Sheet No. 1 | The reference location is marked as 80 south, 89 east, CRM. This point lies north of a true east-and-west line. The true east-and-west line lies 3,040 feet true south from the northernmost extremity of the point together with adjacent rocks and islets. | Approx. Long. 130°44′ W Lat. 54°49′ N.
(U) Caamano Point, Cleveland Peninsula, and Clarence Strait | U.S. Coast and Geodetic Survey Chart No. 8102—Sheet No. 6 | Location consists of everything apart of the extreme south end of the Cleveland Peninsula lying on a south side of a true east-and-west line that is drawn across the point at a distance of 800 feet true north from the southernmost point of the low-water line. This includes off-lying rocks and islets that are not covered at low water. | Approx. Long. 131°59′ W Lat. 55°30′ N.
(V) Meyers Chuck and Clarence Strait | U.S. Coast and Geodetic Survey Chart No. 8124—Sheet No. 26 | The tidelands and the small island is about 150 yards in diameter and located about 200 yards northwest of Meyers Island. | Approx. Long. 132°16′ W Lat. 55°44½′ N.
(W) Round Island and Cordova Bay | U.S. Coast and Geodetic Survey Chart No. 8145—Sheet No. 36 | The tidelands and the southwestern island of the group is about 700 yards long, including off-lying rocks and reefs that are not covered at low water. | Approx. Long. 132°30½′ W Lat. 54°46½′ N.
(X) Mary Island | U.S. Coast and Geodetic Survey Chart No. 8145—Sheet No. 36 | The reference location begins at a point that is placed at a low-water mark. The aforementioned point is southward 500 feet from a crosscut on the side of a large rock on the second point below Point Winslow and Mary Island; thence due west ¾ mile, statute; thence due north to a low-water mark; thence following the winding of the low water to the place of beginning. | Approx. Long. 131°11′00″ W Lat. 55°05′55″ N.
(Y) Tree Point | U.S. Coast and Geodetic Survey Chart No. 8145—Sheet No. 36 | The reference location starts at a point of a low-water mark. The aforementioned point is southerly ½ mile from the extreme westerly point of a low-water mark on Tree Point, on the Alaska Mainland; thence due true east, ¾ mile; thence due north 1 mile; thence due west to a low-water mark; thence following the winding of the low-water mark to the place of beginning. | Approx. Long. 130°57′44″ W Lat. 54°48′27″ N.
(Z) Warm Springs Bay, Chatham Strait, and Baranof Island | U.S. Coast and Geodetic Survey Chart No. 8243—Sheet No. 51 | The reference location is marked as 55 south, 67 east, CRM, SECS 20 and 21, U.S. Survey No. 1649. The location begins at a point on the low-water line south side of the entrance to Warm Springs Bay, westerly side of Chatham Strait and distant 400 feet westerly in a direct line from the center of the concrete slab, 4 feet square, upon which the structure of the Warm Springs Bay light is erected; thence south true 400 feet; thence east true 600 feet, more or less, to an intersection with the low-water line; thence northerly and westerly, following the windings of the low-water line to the point of beginning. | Approx. Long. 134°46′48″ W Lat. 57°04¾′ N.
(AA) Killisnoo Harbor Southern Entrance and Chatham Strait | U.S. Coast and Geodetic Survey Chart No. 8285—Sheet No. 53 | The reference location is marked as 50 south, 66 east, CRM. The location is marked at a reef off the southeastern extremity of Killisnoo Island, bare at low water and covered at high water, including all that part of the reef bounded by the low-water line and a northeast-and-southwest true line drawn tangent to the high-water line of the island. Killisnoo Harbor Southern Entrance Light is located upon a concrete pier on the outer part of the reef. | Approx. Long. 134°34′ W Lat. 57°28′ N.
(BB) Killisnoo Harbor and Chatham Strait | U.S. Coast and Geodetic Survey Chart No. 8285—Sheet No. 53 | The reference location is marked as 51 south, 68 east, CRM, SEC 7. The location is marked at a small rock bare at low water and covered at high water. The point is located 80 yards off the shore of Killisnoo Island in Killisnoo Harbor, 300 yards northwesterly from the wharf, and occupied by a concrete pier and superstructure supporting Killisnoo Harbor Light. | Approx. Long. 134°33¾′ W Lat. 57°28′ N.
(CC) Point Gardner, Chatham Strait, and Admiralty Island | U.S. Coast and Geodetic Survey Chart No. 8212—Sheet No. 50 | The reference location is marked as 56 south, 68 east, CRM, SEC 16, U.S. Survey No. 1637. The location begins at a point on the low-water line of Chatham Strait northward of the point and distant 1,000 feet in a straight line from the center of the concrete slab 4 feet square upon which the structure of Point Gardner Light is erected; thence S 80° E true 1,200 feet, more or less, to an intersection with the low-water line on the shore of Surprise Harbor; thence southerly, westerly, and northerly, following the winding of the low-water line to the point of beginning, and including islets and rocks lying within ⅜ mile southward of the Point. | Approx. Long. 134°37′ W Lat. 57°01′ N.
(DD) Point Gambier, Stephens Passage, and Entrance to Gambier Bay | U.S. Coast and Geodetic Survey Chart No. 8200—Sheet No. 18 | The reference location is marked as 51 south, 72 east, CRM, SEC 22, U.S. Survey No. 1638. All that part of Gambier Island lies southeastward of a true northeast-and-southeast line drawn across the island and lies 1,520 feet distant from the high-water mark at the southeastern extremity of the island, including all adjacent rocks and reefs not covered at low water. | Approx. Long. 133°50′ W Lat. 57°26′ N.
(EE) Gambier Bay Entrance, Stephens Passage, and Gambier Bay | U.S. Coast and Geodetic Survey Chart No. 8224—Sheet No. 72 | The reference location is marked as 51 south, 72 east, CRM, SEC 7. The reef is covered at high water and bare at low water, located about ⅜ nautical mile northeast of northwest point of Gain Island. The proposed reservation includes that part of the reef not covered at low water and lying southeast of a northeast-and-southwest line located at a distance of 600 feet northwest of the Gambier Bay Entrance Light structure, which consists of a small house and skeleton steel tower surmounting a concrete pier. | Approx. Long. 133°55′ W Lat. 57°28′ N.
(FF) False Point Pybus, Admiralty Island | U.S. Coast and Geodetic Survey Chart No. 8224—Sheet No. 11 | The location begins at a point 1,285 feet northwest true from the center of False Point Beacon, a slatted tripod located on the point about 1 nautical mile southerly from False Point Pybus, thence east true 1,170 feet, more or less, to an intersection with the low-water line, thence southerly and westerly following the windings and indentations of the low-water line to a point from which the point of beginning bears north true, thence north true, 1,000 feet, more or less, to a point of beginning. | Approx. Long. 133°52½′ W Lat. 57°21′ N.
(GG) The Brothers Island, Stephens Passage | U.S. Coast and Geodetic Survey Chart No. 8200—Sheet No. 18 | The reference location is marked as 49 south, 61 east, CRM. The point is located on the westerly side of the southern end of Stephens Passage. All of the eastern group of islands known as The Brothers, being about ½ nautical mile long and ⅓ nautical mile wide and about 232 feet high, including all adjacent islets and rocks not covered at low water. | Approx. Long. 133°47′ W Lat. 57°17½′ N.
(HH) Cape Fanshaw and Frederick Sound | U.S. Coast and Geodetic Survey Chart No. 8216—Sheet 17 | The reference location is marked as 54 south, 74 and 75 east, U.S. Survey No. 1610. All of the cape that is west of a true north-and-south line drawn 1,520 feet due east of the westernmost part of the high-water line at the point, including all adjacent rocks and reefs not covered at low water. | Approx. Long. 133°34′21″ W Lat. 57°11′02″ N.
(II) West Point, Kupreanof Island, and the Entrance to Portage Bay | U.S. Coast and Geodetic Survey Chart No. 8210. See sheet for East Point, No. 9 | All of that part of the point lying east of a true north-and-south line drawn across the point at a distance of 600 feet west of the most easterly part of the low-water line at the point. | Approx. Long. 133°20′ W Lat. 57°00′ N.
(JJ) East Point, Kupreanof Island, and the Entrance to Portage Bay | U.S. Coast and Geodetic Survey Chart No. 8210—Sheet No. 9 | All of that part of the point lying on the west side of a true north-and-south line drawn across the point at a distance of 600 feet east true from the most westerly part of the low-water line at the point. | Approx. Long. 133°19′ W Lat. 57°00′ N.
(KK) Kingsmill Point, Chatham Strait, Kuiu Island | U.S. Coast and Geodetic Survey Chart No. 8214—Sheet No. 48 | The reference location is marked as 58 south, 70 east, CRM, SEC 17, U.S. Survey No. 1621. The location begins at a point on a low-water line southward of the point and distant 1,200 feet in a direct line from the center of the concrete slab upon which the structure of Kingsmill Point Light is erected; thence east true 900 feet; thence north true 2,300 feet, more or less, to an intersection with the low-water line northeastward of the point; thence southwesterly and southerly along the windings of a low-water line to the point of beginning. | Approx. Long. 134°25′ W Lat. 56°50½′ N.
(LL) Washington Bay, Chatham Strait, and Kuiu Island | U.S. Coast and Geodetic Survey Chart No. 8241—Sheet No. 47 | The reference location is marked as 59 south, 70 east, CRM, SEC 33, U.S. Survey No. 1650. All that part of the land on the south side of the entrance to Washington Bay lying on the northwesterly side of the straight line bearing N 55° E and S 55° W true drawn across the land from the low-water line in Chatham Strait to a low-water line in Washington Bay, said line being distant 300 feet S 35° E true from a point on the low-water line between the two headlands, from which a left tangent to the high-water line of a small island lying 130 yards offshore in the bight bears N 35° W true; and including the aforementioned island. | Approx. Long. 134°10′ W Lat. 56°40′ N.
(MM) Point Ellis, Chatham Strait, and Bay of Pillars | U.S. Coast and Geodetic Survey Chart No. 8241—Sheet No. 46 | The reference location is marked as 43 south, 65 east, CRM. The small island N 58° W true ⅜ mile from Pt. Ellis, including adjacent reefs and rocks not covered at low water. | Approx. Long. 134°19′16″ W Lat. 56°33′28″ N.
(NN) Point Crowley, Chatham Strait, and Kuiu Island | U.S. Coast and Geodetic Survey Chart No. 8152—Sheet No. 45 | The reference location is marked as 66 south, 72 east, CRM, SECS 22 and 27, U.S. Survey No. 2171. All that part of Kuiu Island in the vicinity of Point Crowley lying west of a true north-and-south line drawn across the point at a distance of 3,040 feet east true from the center of the concrete slab 4 feet by 6 feet upon which the structure for Point Crowley Light is erected, and including all adjacent islets and rocks not covered at low water. | Approx. Long. 134°16′ W Lat. 56°07′ N.
(OO) Strait Island and Sumner Strait | U.S. Coast and Geodetic Survey Chart No. 8200—Sheet No. 40 | The reference location is marked as 59 south, 70 east, CRM, SEC 8, U.S. Survey No. 1604. The southeastern island of the group, including adjacent and outlying rocks and reefs not covered at low water. | Approx. Long. 133°42′ W Lat. 56°24′ N.
(PP) Povornotni Island and Peril Strait | U.S. Coast and Geodetic Survey Chart No. 8282—Sheet No. 31 | The island is about 200 yards long, off Pogibshi Point, including adjacent rocks and reefs not covered at low water. | Approx. Long. 135°33′ W Lat. 57°30½′ N.
(QQ) Tenakee Inlet and Chatham Strait | U.S. Coast and Geodetic Survey Chart No. 8300—Sheet No. 55 | All of the small islands and associated tidelands are located about 300 yards off South Passage Point, including rock awash shown on the chart ½ nautical mile northeasterly from South Passage Point. | Approx. Long. 134°56′ W Lat. 57°46′ N.
(RR) Danger Point, Chatham Strait, and Admiralty Island | U.S. Coast and Geodetic Survey Chart No. 8247—Sheet No. 54 | The reference location is marked as 50 south, 67 east, CRM, SECS 25 and 26, U.S. Survey No. 1613. The location begins at a point on a low-water line southward of Danger Point and distant 700 feet in a direct line from the center of the concrete slab, 4 feet square, upon which the structure of Danger Point Light is erected; thence northeast true 1,000 feet, more or less, to an intersection with the low-water line eastward of Danger Point; thence westerly, etc., following the windings of the low-water line to the point of beginning, including rocks and reefs off the point not covered at low water. | Approx. Long. 134°36′ W Lat. 57°30′ 30″ N.
(SS) Point Hugh, Stephens Passage, Glass Peninsula, and Admiralty Island | U.S. Coast and Geodetic Survey Chart No. 8200—Sheet No. 18 | The reference location is marked as 49 south, 72 east, CRM, U.S. Survey No. 1641. The location begins at a point on a low-water line on the easterly side of Glass Peninsula about 1½ nautical miles northerly from Point Hugh 1¼ nautical miles in a direct line southerly from the center of a concrete slab 4 feet square, upon which is erected the structure of Point Hugh Light; thence west true, 1,520 feet; thence N 4° W, true 2¼ nautical miles, more or less, to an intersection with the low-water line; thence southeasterly and southerly, following the windings of the low-water line to the point of beginning. | Approx. Long. 133°52′ W Lat. 57°37′ N.
(TT) Point Styleman, Stephens Passage, and north side of the entrance to Port Snettisham | U.S. Coast and Geodetic Survey Chart No. 8227—Sheet No. 30 | All of that part of the point lying south of a true east-and-west line drawn across the point at a distance of 700 feet north true from the southernmost part of the high-water line, including adjacent rocks and reefs not covered at low water. | Approx. Long. 133°53½′ W Lat. 57°58½′ N.
(UU) Kakul Narrows and Perils Strait | U.S. Coast and Geodetic Survey Chart No. 8282—Sheet No. 20 | The two islets are about 150 yards and 100 yards long, respectively, on the east side of Kakul Narrows, and all of the off-lying group of rocks northward named on the Chart Channel Islets, including all adjacent rocks and reefs not covered at low water. | Approx. Long. 135°41′ W Lat. 57°22′ N.
(VV) Channel Rock and Sitka Sound | U.S. Coast and Geodetic Survey Chart No. 8244—Sheet No. 63 | The reference location is marked as 56 south, 63 east, CRM. The location is marked by a rock covered at high water and bare at low water, located ¼ nautical mile north of Japonski Island. | Approx. Long. 135°22′ W Lat. 57°03½′ N.
(WW) Harbor Rock and Sitka Harbor | U.S. Coast and Geodetic Survey Chart No. 8244—Sheet No. 63 | The reference location is marked as 56 south, 63 east, CRM. The location is marked at a small rock covered at high water and bare at low water, located 300 yards north of the naval wharf on Japonski Island. | Approx. Long. 135°20′48″ W Lat. 57°03⅛″ N.
(XX) False Point Retreat, Lynn Canal, and Admiralty Island | U.S. Coast and Geodetic Survey Chart No. 8302—Sheet No. 12 | The location begins at a point near the west shore of Mansfield Peninsula about 2½ nautical miles southerly from Pt. Retreat, from which the center of False Point Retreat Beacon, a slatted tripod anchored to concrete piers, bears west true, distant 900 feet, thence southwest true 900 feet, more or less, to an intersection with the low-water line, thence northwesterly, northerly, and northeasterly, following the winding of the low-water line, to a point from which the point of the beginning bears southeast true, thence southeast true 600 feet, more or less, to the point of beginning. | Approx. Long. 134°58′ W Lat. 58°22′ N.
(YY) Shelter Island, Stephens Passage, and the Southeastern Part of Shelter Island | U.S. Coast and Geodetic Survey Chart No. 8302—Sheet No 23 | The reference location is marked as 40 south, 64 east, CRM, SEC 26, U.S. Survey No. 1645. The location begins at a point on a low-water line on the eastern side of the island about 1,000 yards northward of the extreme southeastern point of the island, from which the center of a concrete slab 4 feet square, upon which Shelter Island Light is erected, is distant 1,000 feet in a straight line bearing S 23° E approximately; thence S 65° W true 600 feet; thence S 23° E, true, 2,000 feet, more or less, to an intersection with a low-water line; thence northeasterly, northerly, and northwesterly, following the windings of the low-water line, to the point of beginning. | Approx. Long. 134°48′ W Lat. 58°22½″ N.
(ZZ) Clear Point, Lynn Canal, the Entrance to Funter Bay, and Admiralty Island | U.S. Coast and Geodetic Survey Chart No. 8302—Sheets No. 23 & No. 24 | The reference location is marked as 42 south, 64 east, CRM, SEC 10, U.S. Survey No. 1612. The location begins at a point on a low-water line about 700 feet northerly from the southern extremity of Clear Point, from which a right tangent to the high-water line, distant about 500 feet bears east true; thence west true, 800 feet, more or less, to an intersection with a low-water line; thence southerly, etc., following the windings of the low-water line around the Point to the point of beginning. | Approx. Long. 134°55′ W Lat. 58°15′ N.
(AAA) Point Augusta, Chatham Strait, and Chichagof Island | U.S. Coast and Geodetic Survey Chart No. 8300—Sheet No. 55 | The reference location is marked as 44 south, 64 east, CRM, U.S. Survey No. 1633. All of that part of the land in the vicinity of Point Augusta bounded by the low-water line and a straight line bearing N 42° W and S 42° E true, distant 2,280 feet S 48° W true, from the center of the concrete slab 4 feet square upon which the structure of Point Augusta Light is erected, including all adjacent rocks and reefs not covered at low water. | Approx. Long. 134°58′ W Lat. 58°03′ N.
(BBB) Middle Point, Stephens Passage and Douglas Island | U.S. Coast and Geodetic Survey Chart No. 8235—Sheet No. 22 | The reference location is marked as 42 south, 66 east, CRM, SEC 9, U.S. Survey No. 2170. This area is about 4½ miles northwesterly from Point Hilda. The location begins at a point on a low-water line from which the center of a concrete slab 4 feet square upon which Middle Point Light is erected, is distant 400 feet in a straight line and bearing southerly; thence east true 900 feet; thence south true 500 feet, more or less, to an intersection with the low-water line; thence westerly, following the windings of the low-water line to the point of beginning. | Approx. Long. 134°37′ W Lat. 58°15′ N.
(CCC) Point Hilda, Stephens Passage, and Douglas Island | U.S. Coast and Geodetic Survey Chart No. 8235—Sheet No. 112 | The reference location is marked as 42 south, 67 east, CRM, SECS 19 and 20, U.S. Survey No. 1640. That part of the Point, including tide lands not covered at low water, lying south of a true east-and-west line drawn across the Point at a distance of 600 feet north, true, from the high-water line at the southernmost part of the point. | Approx. Long. 134°30′ W Lat. 58°13′ N.
(DDD) Point Arden, Stephens Passage, and Admiralty Island | U.S. Coast and Geodetic Survey Chart No. 8300—Sheet No. 20 | The reference location is marked as 43 south, 68 and 69 east, CRM, U.S. Survey No. 1632. The location begins at a point on a low-water line southward of Point Arden from which the center of a concrete slab upon which Point Arden Light is erected, is distant 3,040 feet in a straight line; thence N 60° W true, 8,000 feet, more or less, to an intersection with the low-water line; thence northeasterly, southeasterly, easterly, and southerly, following the winding of a low-water line to the point of beginning. | Approx. Long. 134°10′ W Lat. 58°9½′ N.
(EEE) Grand Island and Stephens Passage | U.S. Coast and Geodetic Survey Chart No. 8300—Sheet No. 15 | The location begins at a point on a low-water line, east shore of Grand Island, 1,520 feet in a direct line, southerly, from the center of Grand Island Beacon, a slatted tripod anchored to concrete piers, thence west true 1,520 feet, thence north true 1,824 feet more or less, to an intersection with a low-water line to the point of beginning. | Approx. Long. 134°06′ W Lat. 58°06′ N.
(FFF) Grave Point and Stephens Passage | U.S. Coast and Geodetic Survey Chart No. 8229—Sheet No. 19 | The reference location is marked as 44 south, 70 east, CRM, SEC 7, U.S. Survey No. 1617. The location begins at a point at a low-water line on the northwesterly side of the entrance to Taku Harbor, from which a left tangent to the high-water line at the northern extremity of Stockade Point, distant about 700 yards, bears S 75° E, true; thence N 75° W, true 4,000 feet, more or less to an intersection with a low-water line northward of Grave Point; thence southerly, easterly, and northeasterly, following the windings of a low-water line to the point of beginning. | Approx. Long. 134°03′ W Lat. 58°04′ N.
(GGG) Low Point, Chilkoot Inlet | U.S. Coast and Geodetic Survey Chart No. 8303—Sheet No. 27 | The reference location is marked as 30 south, 60 east, CRM, SECS 18 and 19, U.S. Survey No. 1625. The location begins at a point on the low-water line northeasterly from Low Point Light and 900 feet in a direct line from the center of the slab 4 feet square upon which the structure for the light is erected; thence S 60° E, true, 1,560 feet; thence S 30° W, true, 1,000 feet, more or less, to an intersection with the low-water line; thence northwesterly and northeasterly, following the windings of the low-water line to the point of beginning. | Approx. Long. 135°21′ W Lat. 59°16′ N.
(HHH) Point St. Mary, Lynn Canal, North Side of Entrance to Berners Bay | U.S. Coast and Geodetic Survey Chart No. 8302—Sheet No. 29 | All that part of the point lying south of a true east-and-west line drawn across the same at a distance of 3,040 feet north true from the high-water line at the southernmost part of the point; including off-lying rocks not covered at low water. | Approx. Long. 135°01′ W Lat. 58°44′ N.
(III) Little Island, Lynn Canal | U.S. Coast and Geodetic Survey Chart No. 8302—Sheet No. 25 | The reference location is marked as 38 south, 63 east, CRM, SEC 29. The location begins as a small island ½ mile N 16° W from Ralston Island, including adjacent rocks and ledges not covered at low water. | Approx. Long. 135°02′ W Lat. 58°32½′ N.
(JJJ) Lemesurier Island, Icy Strait | U.S. Coast and Geodetic Survey Chart No. 8304—Sheet No. 59 | The reference location is marked as 41 south, 57 west, CRM, SECS 14 and 15, U.S. Survey No. 1623. All that part of the northeastern extremity of the island lying north of a true east-and-west line drawn across the point at a distance of 1,520 feet south true from the center of the concrete slab 4 feet square upon which the structure of the light is erected, including all adjacent rocks and islets not covered at low water. | Approx. Long. 136°02′ W Lat. 58°19′ N.
(KKK) The Sisters, Icy Strait | U.S. Coast and Geodetic Survey Chart No. 8302. See sheet for Spasskaia Island, No. 42 | The island is about 6½ nautical miles westerly from Point Couverden, about ½ mile long and 150 feet high, including adjacent rocks and islets not covered at low water, and Sisters Reef, located 1 mile to westward. | Approx. Long. 135°15½′ W Lat. 58°11′ N.
(LLL) Spasskaia Island, Icy Strait | U.S. Coast and Geodetic Survey Chart No. 8302—Sheet No. 42 | The location begins as two small islets about 30 feet high located about 7¾ nautical miles southwesterly from Point Couverden, including adjacent rocks and reefs not covered at low water. | Approx. Long. 135°10′ W Lat. 58°07½′ N.
(MMM) Lord Rock, Dixon Entrance | U.S. Coast and Geodetic Survey Chart No. 8051—Sheet No. 1 | The reference location is marked as 82 south, 98 east, CRM, SEC 30. The location is a small bare rock about 10 feet high, lying about ¾ mile SW from the south group of Lord Island. | Approx. Long. 130°49′ W Lat. 54°44′ N.
(NNN) Boat Rock, Dixon Entrance | U.S. Coast and Geodetic Survey Chart No. 8051—Sheet No. 1 | The reference location is marked as 82 south, 98 east, CRM, SEC 8. The point is a small barren rock about 5 feet high, located about 200 yards offshore, about 2 miles northeasterly from Cape Fox, west side of Nakat Bay. | Approx. Long. 130°48′ W Lat. 54°47′ N.
(OOO) Black Rock, Revillagigedo Channel | U.S. Coast and Geodetic Survey Chart No. 8075—Sheet No. 2 | The reference location is marked as 79 south, 95 east, CRM, SEC 14. Barren rock about 26 feet height located 3½ nautical miles southwest true, from Kah Shakes Point. | Approx. Long. 131°04′ W Lat. 55°01′ N.
(PPP) Hog Rocks, Revillagigedo Channel | U.S. Coast and Geodetic Survey Chart No. 8075—Sheet No. 3 | The reference location is marked as 77 south, 94 east, CRM, SEC 20. The location consists of a group of barren rocks 1.6 nautical miles N 70° true east from Middy Point, Ham Island. | Approx. Long. 131°17′ W Lat. 55°10′30″ N.
(QQQ) Mountain Point, Revillagigedo Channel | U.S. Coast and Geodetic Survey Chart No. 8094—Sheet No. 4 | The reference location is marked as 76 south, 91 east, CRM, SEC 11. The location begins at a point on the low-water line 900 feet from the southernmost extremity of Mountain Point, and bearing approximately N 70° true east, therefrom; thence N 45° true west, 2,100 feet; thence west true, 2,400 feet, more or less, to an intersection with the low-water line; thence along a low-water line, southeasterly, easterly, and northeasterly to the beginning point. | Approx. Long. 131°32′ W Lat. 55°17½′ N.
(RRR) Peninsula Point, Tongass Narrows | U.S. Coast and Geodetic Survey Chart No. 8094—Sheet No. 5 | The reference location is marked as 75 south, 90 east, CRM, SEC 9. The location consists of a small island about 100 yards southwest of Peninsula Point. | Approx. Long. 131°44′ W Lat. 55°23′ N.
(SSS) Channel Island, Tongass Narrows | U.S. Coast and Geodetic Survey Chart No. 8094—Sheet No. 5 | The reference location is marked as 75 south, 90 east, CRM, SEC 5. The point is a small island in Tongass Narrows about 1¼ nautical miles NW from Peninsula Point. | Approx. Long. 131°46′ W Lat. 55°23¾′ N.
(TTT) Bluff Point, Behm Canal, Entrance to Yes Bay | U.S. Coast and Geodetic Survey Chart No. 8105—Sheet No. 6 | The reference location is marked as 69 south, 89 east, CRM, SEC 15, U.S. Survey No. 1605. Location consists of everything apart of the point lying east of a true north-and-south line 570 feet westerly from a high-water line of the easterly extremity of the Bluff. | Approx. Long. 131°45′ W Lat. 55°53′ N.
(UUU) Moira Rock, Clarence Strait | U.S. Coast and Geodetic Survey Chart No. 8100—Sheet No. 7 | The reference location is marked as 78 south, 89 east, CRM, SEC 33. The location is a small rock in the entrance to Moira Sound about 30 feet high, about 1.6 miles due true south from Adams Point. | Approx. Long. 132°00′ W Lat. 55°04′ N.
(VVV) Skin Island, Clarence Straits | U.S. Coast and Geodetic Survey Chart No. 8100—Sheet No. 7 | The reference location is marked as 76 south, 88 east, CRM, SEC ⅝. The location is a small island in the entrance to Cholmondeley Sound, about 1 mile off the western shore in Clarence Strait. | Approx. Long. 132°04′ W Lat. 55°18′ N.
(WWW) Hump Island, Cholmondeley Sound | U.S. Coast and Geodetic Survey Chart No. 8100—Sheet No. 7 | The reference location is marked as 76 south, 90 east, CRM. The location is a small island in Cholmondeley Sound, about 4½ nautical miles from Chasina Point. | Approx. Long. 132°05′ W Lat. 55°13½′ N.
(XXX) Ratz Harbor, Clarence Strait | U.S. Coast and Geodetic Survey Chart No. 8124—Sheet No. 10 | The reference location is marked as 69 south, 84 east, CRM, SEC 18. The location is the outermost small islet on the northwest side of the entrance to Ratz Harbor. | Long. 132°36′ W Lat. 55°53½′ N.
(YYY) Beck Island, Kashevarof Passage | U.S. Coast and Geodetic Survey Chart No. 8160—Sheet No. 11 | The reference location is marked as 67 south, 81 east, CRM, SEC 22. The location consists of an island lying ¾ mile N 36° W, true from Coffman Island. | Approx. Long. 132°52′ W Lat. 56°03′ N.
(ZZZ) Vichnefski Rock, Sumner Strait | U.S. Coast and Geodetic Survey Chart No. 8160—Sheet No. 12 | The reference location is marked as 63 south, 79 east, CRM, SEC 1. The location is indicated by a rock awash at extreme high water, located ¾ mile NW of Point St. John, Zarembo Island. | Approx. Long. 133°01′ W Lat. 56°26′ N.
(AAAA) Point Alexander, Wrangell Strait, Mitkof Island | U.S. Coast and Geodetic Survey Chart No. 8170—Sheet No. 13 | The reference location is marked as 62 south, 80 east, CRM, SEC 8. The point is indicated by a small rocky ledge lying about 75 yards offshore at Point Alexander, Mitkof Island. | Approx. Long. 132°57′ W Lat. 56°30½′ N.
(BBBB) Midway Rock, Wrangell Strait | U.S. Coast and Geodetic Survey Chart No. 8170—Sheet No. 13 | The reference location is marked as 62 south, 80 east, CRM, SEC 5. The location is indicated by a rock 400 yards from easterly shore and about 1¼ miles from the southerly entrance to the strait. | Approx. Long. 132°58′ W Lat. 56°31¼′ N.
(CCCC) Anchor Point, Wrangell Strait | U.S. Coast and Geodetic Survey Chart No. 8170—Sheet No. 14 | The reference location is marked as 60 south, 79 east, CRM, SEC 26, USS 1601. The location is at the south side of Blind Slough. The location consists of everything apart of the point north of a true east-and-west line lying 300 feet south true from the high-water mark at the northern extremity of the point. | Approx. Long. 132°55½′ W Lat. 56°38¼′ N.
(DDDD) Mitkof Island, Wrangell Strait | U.S. Coast and Geodetic Survey Chart No. 8170—Sheet No. 15 | The location consists of everything apart of the northern extremity of Mitkof Island, at the entrance to Wrangell Strait, north of a true east-and-west line lying 200 feet south true from the high-water mark at the northernmost point of the shoreline. | Approx. Long. 132°56′ W Lat. 56°49¼′ N.
(EEEE) Duck Point, Fanshaw Bay | U.S. Coast and Geodetic Survey Chart No. 8216—Sheet No. 17 | The reference location is marked as 54 south, 75 east, CRM, SEC 9. The point starts at a small rock close to shore off Duck Point, Whitney Island, and on which a light is being maintained. | Approx. Long. 133°30½′ W Lat. 57°12½′ N.
(FFFF) Marmion Island, Gastineau Channel | U.S. Coast and Geodetic Survey Chart No. 8235—Sheet No. 21 | The reference location is marked as 42 south, 68 east, CRM, SEC 26, USS 1740. The location is a small island about 200 yards long by 100 yards wide, near Point Tantallon, and the westerly side of the entrance to Gastineau Channel. | Approx. Long. 134°15′ W Lat. 56°12′ N.
(GGGG) Little Chilkat Island, Chilkoot Inlet | U.S. Coast and Geodetic Survey Chart No. 8303—Sheet No. 26 | The reference location is marked as 32 south, 60 east, CRM, SECS 22, 23, and 26. This location is the most northerly island of the Chilkat group, the same being about ⅝ nautical mile long and located about 1 nautical mile southeast of Seduction Point. | Approx. Long. 135°15′ W Lat. 59°05′ N.
(HHHH) Barren Island, Dixon Entrance | U.S. Coast and Geodetic Survey Chart No. 8100—Sheet No. 28 | The island is bare rock, about 20 feet high, and lies off the west side entrance to Revillagigedo Channel, approximately 6½ miles south of the southern extremity of Duke Island. | Approx. Long. 131°20′ W Lat. 54°45′ N.
(IIII) Dewey Rocks, Cordova Bay | U.S. Coast and Geodetic Survey Chart No. 8152—Sheet No. 30 | The reference location is marked as 15 south, 3 west, CRM. The location is marked by a small rock about 12 feet high, about 1½ miles S 5° E, from Round Island in the entrance to Cordova Bay. | Approx. Long. 132°30′ W Lat. 54°45′ N.
(JJJJ) Mellen Rock, Cordova Bay | U.S. Coast and Geodetic Survey Chart No. 8152—Sheet No. 30 | The reference location is marked as 79 south, 85 east, CRM, SEC 7. The location is marked by a small rock about 12 feet high, in Cordova Bay, ¾ mile off the eastern shore of Sukkwan Island. | Approx. Long. 132°40′ W Lat. 55°02′ N.
(KKKK) Sukkwan Narrows, Sukkwan Island | U.S. Coast and Geodetic Survey Chart No. 8153—Sheet No. 31 | The reference location is marked as 77 south, 83 east, CRM, SECS 12 and 13, USS 1647. The location begins at a point of a low-water line on the north end of Sukkwan Island, eastern part of Sukkwan Narrows, from which a rock awash 150 yards offshore bears north true; thence S 60° W, true, 750 feet, more or less, to an intersection with the low-water line; thence northerly, northeasterly, and easterly, following the windings of the low-water line to the point of the beginning. The location includes adjacent rocks not covered at low water. | Approx. Long. 132°50′30″ W Lat. 55°12′ N.
(LLLL) Rose Inlet, Tlenak Strait | U.S. Coast and Geodetic Survey Chart No. 8152—Sheet No. 32 | The location consists of all of the outer island located in the entrance to Rose Inlet. | Approx. Long. 132°56′ W Lat. 54°57½′ N.
(MMMM) Klawock Reef, San Alberto Bay | U.S. Coast and Geodetic Survey Chart No. 8155—Sheet No. 33 | The reference location is marked as 73 south, 81 east, CRM, SEC 9. The location is indicated by a rock covered at high water and bare at low water, located 800 yards N 28° W true, from the northern extremity of Fish Egg Island. The structure supporting the light is erected on a concrete pier. | Approx. Long. 133°10½′ W Lat. 55°30½′ N.
(NNNN) Point McCartey, Nichols Passage | U.S. Coast and Geodetic Survey Chart No. 8075—Sheet No. 34 | The reference location is marked as 78 south, 91 east, CRM, SECS 9 and 16. The location is at the southeasternmost islet in Bronaugh Island Group. Islet is on the west side of the entrance to Nichols Passage, 1½ miles S 54° E from Dall Head. | Approx. Long. 131°43′ W Lat. 55°07′ N.
(OOOO) Warburton Island, Nichols Passage | U.S. Coast and Geodetic Survey Chart No. 8074—Sheet No. 35 | The reference location is marked as 78 south, 91 east, CRM, SEC 1. The location consists of all of the island, which is located about 2 miles west of Metlakatla. | Approx. Long. 131°38′ W Lat. 55°08′ N.
(PPPP) Blank Island, Nichols Passage | U.S. Coast and Geodetic Survey Chart No. 8075—Sheet No. 36 | The reference location is marked as 76 south, 91 east, CRM, SEC 19. The location consists of the southern island of the group in the north end of Nichols Passage, at the entrance of Blank Inlet, Gravina Island. | Approx. Long. 131°38′ W Lat. 55°16′ N.
(QQQQ) Stikine Strait Island, Stikine Strait | U.S. Coast and Geodetic Survey Chart No. 8160—Sheet No. 37 | The reference location is marked as 65 south, 82 east, CRM, SEC 22. The location consists of a small island about ½ mile N 16° E, true, from Steamer Point, Elolin Island. | Approx. Long. 132°43′ W Lat. 56°13′ N.
(RRRR) Point Craig, Sumner Strait, Zarembo Island | U.S. Coast and Geodetic Survey Chart No. 8160—Sheet No. 38 | The reference location is marked as 62 south, 81 east, CRM, USS 1635. The location consists of everything apart of Zarembo Island in the vicinity of Point Craig lying on the north side of a true east-and-west line drawn across the point 750 feet due south of the northernmost extremity of the point. | Approx. Long. 132°44′ W Lat. 56°27½′ N.
(SSSS) The Eye Opener, Sumner Strait | U.S. Coast and Geodetic Survey Chart No. 8200—Sheet No. 39 | The reference location is marked as 63 south, 78 east, CRM, SEC 20. The location is indicated by a bare rock in the middle of Sumner Strait, 3 miles due north from Pine Point, Prince of Wales Island. | Approx. Long. 133°16′ W Lat. 56°23′ N.
(TTTT) Beauclerc Island, Sumner Strait | U.S. Coast and Geodetic Survey Chart No. 8200—Sheet No. 40 | The reference location is marked as 65 south, 75 east, CRM, SEC 5. The location starts at a small island in the entrance to Port Beauclerc, located about 4 nautical miles south of Boulder Point. | Approx. Long. 133°50½′ W Lat. 56°15′ N.
(UUUU) Shakan Bay, Sumner Strait | U.S. Coast and Geodetic Survey Chart No. 8176—Sheet No. 41 | The reference location is marked as 66 south, 76 east, CRM, SEC 14. The location consists of all of the island named Station Island, located ¼ mile northwest of Kosciusko Island and ¼ mile east of Shakan Islands, south side of the entrance to Shakan Strait. | Approx. Long. 133°37′ W Lat. 56°09′ N.
(VVVV) Spanish Island, Sumner Strait | U.S. Coast and Geodetic Survey Chart No. 8152—Sheet No. 42 | The reference location is marked as 68 south, 73 east, CRM, SECS 10 and 15. The location consists of the northernmost island in the group, about 1½ miles S 44° E from Cape Decision, Kuiu Island. | Approx. Long. 134°06′ W Lat. 55°59′ N.
(WWWW) Turnabout Island, Frederick Sound | U.S. Coast and Geodetic Survey Chart No. 8200—Sheet No. 43 | The reference location is marked as 55 south, 72 east, CRM, SEC 4. The location is a small island about ¼ mile long, located 4½ miles N 22° E from Cape Bendel, Kupreanof Island, being the northwestern island of the group. | Approx. Long. 133°59′ W Lat. 57°07½′ N.
(XXXX) Pybus Bay, Frederick Sound | U.S. Coast and Geodetic Survey Chart No. 8218—Sheet No. 18 | The reference location is marked as 55 south, 63 east, CRM. The location consists of all of the small island in Pybus Bay, located 3⅛ nautical miles N 77° W true from Point Pybus. | Approx. Long. 134°04½′ W Lat. 57°19′ N.
(YYYY) Murder Cove, Frederick Sound | U.S. Coast and Geodetic Survey Chart No. 8242—Sheet No. 43A | The reference location is marked as 56 south, 68 east, CRM, SEC 11. The location begins as a small rocky islet located on the east side of Murder Cove, ⅜ nautical mile N 45° W true from Walker Point, Admiralty Island. | Approx. Long. 134°33′ W Lat. 57°01½′ N.
(ZZZZ) Cape Ommaney, Chatham Strait | U.S. Coast and Geodetic Survey Chart No. 8250—Sheet No. 44 | The reference location is marked as 66 south, 69 east, CRM, SEC 12. The location consists of all of Wooden Island, located about ½ mile southeasterly from Cape Ommaney, Baranof Island. | Approx. Long. 134°40′ W Lat. 56°09½′ N.
(AAAAA) Red Bluff Bay, Baranof Island, Chatham Strait | U.S. Coast and Geodetic Survey Chart No. 8242—Sheet No. 49 | The reference location is marked as 43 south, 65 east, CRM. The location begins at the first and most southeasterly island in the entrance to the Bay. | Approx. Long. 134°42½′ W Lat. 56°50½′ N.
(BBBBB) Point Craven, Peril Strait | U.S. Coast and Geodetic Survey Chart No. 8283—Sheet No. 52 | The reference location is marked as 51 south, 66 east, CRM, SEC 8. The location consists of a small island about 300 yards S 52° E true from the southeastern point of Chichagof Island on the west side of the entrance to Sitkoh Bay. | Approx. Long. 134°51½′ W Lat. 57°27′ N.
(CCCCC) Tenakee, Tenakee Inlet, Chichagof Island | U.S. Coast and Geodetic Survey Chart No. 8300—Sheet No. 55 | The reference location is marked as 47 south, 63 east, CRM, SEC 22. The location consists of all of a small island located just off the north shore of the inlet, about ¾ nautical mile eastward of Tenakee Village. | Approx. Long. 135°12′ W Lat. 57°47′ N.
(DDDDD) Hawk Inlet Entrance, Chatham Strait | U.S. Coast and Geodetic Survey Chart No. 8300—Sheet Nos. 55 and 56 | The reference location is marked as 47 south, 61 east, CRM. The location starts at a small island on the south side of the entrance to Hawk Inlet upon which Hawk Inlet Entrance Light is maintained. | Approx. Long. 134°46′ W Lat. 58°05′ N.
(EEEEE) Rocky Island, Icy Strait | U.S. Coast and Geodetic Survey Chart No. 8302—Sheet No. 57 | The location begins at an island that is about 50 feet high and 600 feet long, located ¾ mile S 10° E, true, from Point Couverden. | Approx. Long. 135°02½′ W Lat. 58°11′ N.
(FFFFF) Inner Point Sophia, Icy Strait, Chichagof Island | U.S. Coast and Geodetic Survey Chart No. 8304—Sheet No. 58 | The reference location is marked as 43 south, 61 east, CRM, SEC 20, USS 1620. The location consists of everything apart of the Point bounded by a low-water line, and a true north-and-south line and a true east-and-west line, 200 feet east and 200 feet south, respectively, from the center of the structure supporting the light, consisting of a skeleton tower on four concrete piers. | Approx. Long. 135°28′ W Lat. 58°08′ N.
(GGGGG) North Inian Pass, Icy Strait | U.S. Coast and Geodetic Survey Chart No. 8304—Sheet No. 60 | The reference location is marked as 41 south, 55 east, CRM, SEC 34, USS 1629. The location consists of everything apart of all the northwestern extremity of North Inian Island lying on the northwestern side of a true northeast-and-southwest line drawn across the island at a distance of 1,520 feet southeast true from the center of the concrete slab 4 feet by 6 feet, upon which the structure of the North Inian Pass Light is erected. | Approx. Long. 136°24′ W Lat. 58°16′ N.
(HHHHH) Vitskari Rocks, Sitka Sound | U.S. Coast and Geodetic Survey Chart No. 8240—Sheet No. 61 | The reference location is marked as 56 south, 62 east, CRM, SEC 22. The location consists of all of a group of rocks located about 3 nautical miles easterly from Point of Shoals. | Approx. Long. 135°32½′ W Lat. 57°00′ N.
(IIIII) The Eckholms, Sitka Sound | U.S. Coast and Geodetic Survey Chart No. 8244—Sheet No. 62 | The reference location is marked as 56 south, 63 east, CRM, SEC 14, USS 3926. The location consists of a group of three small islands and including also a fourth islet called Liar Rock on the charts and located 150 yards N 75° W from the Eckholms. | Approx. Long. 135°21½′ W Lat. 57°00′30″ N.
(JJJJJ) Old Sitka Rocks, Sitka Sound | U.S. Coast and Geodetic Survey Chart No. 8281—Sheet No. 64 | The reference location is marked as 55 south, 63 east, CRM, SEC 9. The location starts at a group of rocks about ¾ mile (nautical) north of Halibut Point. | Approx. Long. 135°24′ W Lat. 57°07′ N.
(KKKKK) Sergius Point, Peril Strait, Chichagof Island | U.S. Coast and Geodetic Survey Chart No. 8282—Sheet No. 65 | The reference location is marked as 51 south, 61 east, CRM, SEC 33, USS 1644. The location consists of everything apart of Sergius Point lying south of a true east-and-west line drawn across the point at a distance of 300 feet north true from the high-water line at the southernmost extremity of the point. | Approx. Long. 135°38′ W Lat. 57°24½′ N.
(LLLLL) Deep Bay Entrance, Peril Strait | U.S. Coast and Geodetic Survey Chart No. 8282—Sheet No. 66 | The point begins at a small islet in the middle of the entrance to Deep Bay, about midway between Little Island and Big Island. | Approx. Long. 135°35½′ W Lat. 57°26′ N.
(MMMMM) Rose Channel Rock, Rose Channel, Peril Strait | U.S. Coast and Geodetic Survey Chart No. 8282—Sheet No. 66 | The reference location is marked as 80 south, 83 east, CRM, SEC 5. The location begins at a small rock 250 yards northwest of Little Rose Island. | Approx. Long. 135°33′ W Lat. 57°27½′ N.
(NNNNN) Otstoia Island, Peril Strait | U.S. Coast and Geodetic Survey Chart No. 8283—Sheet No. 67 | The location begins at an island about 500 yards long and 200 yards wide, located 1 mile west of Nismeni Point. | Approx. Long. 135°26′34″ W Lat. 57°33′ N.
(OOOOO) McClellan Rock, Peril Strait | U.S. Coast and Geodetic Survey Chart No. 8283—Sheet No. 68 | The reference location is marked as 51 south, 65 east, CRM, SEC 17. The location begins at a rock about 600 feet S 22° W, true off Lindenberg Head. | Approx. Long. 135°01′ W Lat. 57°27′ N.
(PPPPP) Klag Bay Entrance, Klag Bay | U.S. Coast and Geodetic Survey Chart No. 8280—Sheet No. 69 | The reference location is marked as 49 south, 58 east, CRM, SECS 21 and 22. The location is marked by the two islands lying on either side of the narrow entrance to Klag Bay, known as “The Gate,” the one on the western side being, about ¾ mile by ¾ mile in extent, and the one on the eastern side being about 200 yards in diameter. | Approx. Long. 136°06½′ W Lat. 57°36½′ N.
(QQQQQ) Cape Edwards, Kukkan Bay | U.S. Coast and Geodetic Survey Chart No. 8250—Sheet No. 70 | The reference location is marked as 54 south, 63 east, CRM. The location consists of everything apart of the point lying on the west side of a true north-and-south line located 1,520 feet east true from the center of the concrete slab upon which Cape Edward Entrance Light is erected. | Approx. Long. 136°15′ W Lat. 57°40′ N.
(RRRRR) Lisianski Strait Entrance, Outside Coast | U.S. Coast and Geodetic Survey Chart No. 8250—Sheet No. 70 | The reference location is marked as 46 south, 55 east, CRM, SECS 25 and 36. The location is shown as a small island ⅓ nautical mile long located in the southeast entrance to Lisiaunski Strait about ¾ nautical mile east of Point Theodore. | Approx. Long. 136°26′ W Lat. 57°50′ N.
(SSSSS) Ocean Cape, Yakutat Bay | U.S. Coast and Geodetic Survey Chart No. 8455—Sheet No. 73 | The reference location is marked as 27 south, 33 east, CRM, SECS 32. The location begins at a point on the low-water line southeasterly from the Cape and distant from Ocean Cape Light 1,520 feet in a straight line; thence northeast true 600 feet, more or less, to an intersection with the low-water line in Ankau Creek; thence following the windings of the low-water line of Ankau Creek northerly, etc., to the intersection with an east-and-west line located 3,040 feet north of the light; thence west true 400 feet, more or less, to an intersection with the low-water line; thence along the low-water line to the point of beginning. | Approx. Long. 139°52′ W Lat. 59°32½′ N.
(TTTTT) Point Carrew, Yakutat Bay | U.S. Coast and Geodetic Survey Chart No. 8455—Sheet No. 73 | The reference location is marked as 27 south, 33 east, CRM, SECS 29. The location consists of everything apart of the Point lying north of a true east-and-west line located 1,000 feet south true from the high-water line at the northernmost extremity of the point. | Approx. Long. 139°50′ W Lat. 59°33½′ N.
(UUUUU) Point Francis, Behm Canal | U.S. Coast and Geodetic Survey Chart No. 8105—Sheet No. 110 | The reference location is marked as 76 south, 88 east, CRM. The location includes that part of the Point lying east of a true north-and-south line drawn across the Point at a distance of 1,200 feet west true from the high-water line at the easternmost extremity of the Point, including the island lying close to the south side of the Point. | Approx. Long 131°50′ W Lat. 55°40′ N.
(VVVVV) Cape Decision, Chatham Strait, Kuiu Island | U.S. Coast and Geodetic Survey Chart No. 8152—Sheet No. 111 | The reference location is marked as 67 and 68 south, 73 east, CRM, USS 1609. The location includes that part of the southern extremity of Kuiu Island lying south of a true east-and-west line located at a distance of 4,560 feet north true from the high-water line at the southernmost extremity of the Point. | Approx. Long 134°08′ W Lat. 56°00′ N.
(WWWWW) Point Adolphus, Icy Strait, Chichagof Island | U.S. Coast and Geodetic Survey Chart No. 8304—Sheet No. 113 | The reference location is marked as 41 south, 59 east, CRM, SECS 28, 29, and 30, USS 1631. The location includes all of that part of the point lying north of a true east-and-west line drawn across the same at a distance of 1,520 feet south true from the high-water line at the northernmost extremity of the Point. | Approx. Long 135°47½′ W Lat. 58°13′ N.
(XXXXX) The Twins, Sitka Sound | U.S. Coast and Geodetic Survey Chart No. 8244—Sheet No. 114 | The reference location is marked as 56 south, 63 east, CRM, SEC 12, USS 3255-TRH and USS 3926-L111A. The location is three small islands about 75 by 150 yards in extent altogether located about ⅜ nautical mile northeast of Galankin Island, the eastern island of the group. | Approx. Long 135°18¾′ W Lat. 57°02′ N.
(YYYYY) Althorp Rock, Port Althorp | U.S. Coast and Geodetic Survey Chart No. 8304—Sheet No. 1 | The location is indicated by a small rock about 15 feet high, near the middle of Port Althorp. | Approx. Long. 136°21½′ W Lat. 58°10′ N.
(ZZZZZ) Amelius Island, Sumner Strait | U.S. Coast and Geodetic Survey Chart No. 8200—Sheet No. 2 | The location is indicated by a small island about 400 yards in diameter 1¾ nautical miles 147° true from Point Amelius and associated tidelands. | Approx. Long. 133°52′ W Lat. 56°10½′ N.
(AAAAAA) Bluff Island, Clarence Strait | U.S. Coast and Geodetic Survey Chart No. 8160—Sheet No. 5 | The location is an island about ¾ mile long and one of the easterly islands of the Kashevarof group. | Approx. Long. 132°53′ W Lat. 56°10′ N.
(BBBBBB) Fannie Island, Port Snettisham | U.S. Coast and Geodetic Survey Chart No. 8227—Sheet No. 13 | The location is an island off Prospect Point, about ¼ nautical mile long by about 150 yards wide and associated tidelands. | Approx. Long. 133°47′ W Lat. 58°02½′ N.
(CCCCCC) Goat Island, Tlevak Strait | U.S. Coast and Geodetic Survey Chart No. 8151—Sheet No. 14 | The location includes all of that part of the southeastern extremity of Goat Island lying south of a true east-and-west line drawn across the point at a distance of 1,200 feet north of the southernmost extremity of the island and associated tidelands. | Approx. Long. 132°53′ W Lat. 55°10′ N.
(DDDDDD) Guide Island, Tlevak Strait | U.S. Coast and Geodetic Survey Chart No. 8151—Sheet No. 4 | The location is an island in the northerly part of Tlevak Strait, between Prince of Wales Island and Dall Island and associated tidelands. | Approx. Long. 133°04′ W Lat. 55°13′ N.
(EEEEEE) Kasaan Bay, Clarence Strait | U.S. Coast and Geodetic Survey Chart No. 8084—Sheet No. 21 | The location is indicated by an unnamed island about 840 yards long by 340 yards wide located near the head of Kasaan Bay 1⅜ nautical miles 66° true from Mound Point and associated tidelands. | Approx. Long. 132°31¼′ W Lat. 55°35′ N.
(FFFFFF) McFarland Island, Tlevak Strait | U.S. Coast and Geodetic Survey Chart No. 8148—Sheet No. 24 | The location is on the southern part of one of the westerly islands of the group about 2 nautical miles long; all that part of the island lying south of a true east-and-west line drawn across the island at a distance of 3,040 feet north from the southernmost part of the high-water line at the south end of the island, including the small islet near the southeast side and associated tidelands. | Approx. Long. 132°55′ W Lat. 55°03′ N.
(GGGGGG) Peep Rock, Karheen Passage | U.S. Coast and Geodetic Survey Chart No. 8171—Sheet No. 28 | The location consists of a small islet located ¾ nautical mile 306° true from the cannery wharf at Karheen and associated tidelands. | Approx. Long. 133°20′ W Lat.55°49′ N.
(HHHHHH) Round Point, Southeastern Shore of Zarembo Island | U.S. Coast and Geodetic Survey Chart No. 8160—Sheet No. 37 | The location is indicated by a southwestern island of the group about 700 yards long, including off-lying rocks and reefs not covered at low water. | Approx. Long. 132°39½′ W Lat. 56°16½′ N.
(IIIIII) Round Rock, Frederick Sound | U.S. Coast and Geodetic Survey Chart No. 8200—Sheet No. 38 | The location consists of a barren rock about 40 feet high located 3 nautical miles 254° true from the south end of West Brother Island. | Approx. Long. 133°56′ W Lat. 57°15½′ N.
(JJJJJJ) Snipe Rock, Ogden Passage | U.S. Coast and Geodetic Survey Chart No. 8280—Sheet No. 40 | The location consists of a small barren rock occupied by the structure of Snipe Rock Light, located 340 yards 147° true from the south point of Herbert Graves Island. | Approx. Long. 136°10½′ W Lat. 57°38′ N.
(KKKKKK) South Craig Point, Zarembo Island | U.S. Coast and Geodetic Survey Chart No. 8160—Sheet No. 41 | The location consists of all of that part of the point lying on the easterly side of a true north-and-south line drawn across the point at a distance of 800 feet west true from the most easterly projection of the low-water line. | Approx. Long. 132°37½′ W Lat. 56°23′ N.
(LLLLLL) Sukoi Islets, Frederick Sound | U.S. Coast and Geodetic Survey Chart No. 8200—Sheet No. 43 | The location consists of the western group of islands and associated tidelands. | Approx. Long. 132°56′ W Lat. 56°54′ N.
(MMMMMM) Three Hill Island, Cross Sound | U.S. Coast and Geodetic Survey Chart No. 8304. See sheet for Althorp Rock, No. 1 | The location consists of Pinnacle rock about 32 feet high on the north shore of Three Hill Island occupied by Three Hill Island Light. | Approx. Long. 136°24′ W Lat. 58°11′ N.
(NNNNNN) Turn Point, Portland Canal | U.S. Coast and Geodetic Survey Chart No. 8051—Sheet No. 44 | The location begins at a point on the low-water line, west shore of Portland Canal, 3,040 feet in a direct line, southerly from the center of Turn Point Beacon, a tripod anchored to concrete piers, thence west true 1,520 feet, thence north true, 5,050 feet, more or less, to an intersection with the low-water line, thence southeasterly and southerly following the windings of a low-water line to the point of beginning. | Approx. Long. 130°03½′ W Lat. 55°26½′ N.
(OOOOOO) Turn Rock, Tlevak Strait | U.S. Coast and Geodetic Survey Chart No. 8151. See sheet for Goat Island, No. 14 | The location includes a small rock, awash at the highest tide, located near the south shore Goat Island and occupied by Turn Rock Beacon; a spindle and concrete pier. | Approx. Long. 132°55′ W Lat. 55°10′ N.
(PPPPPP) Woronkofski Point, Woronkofski Island | U.S. Coast and Geodetic Survey Chart No. 8160. See sheet for High Point, No. 18 | The location begins at a point from which Woronkofski Beacon, a white slatted tripod, bears west true, distant 1,520 feet, thence south true 1,100 feet, thence west true 1,824 feet, more or less, to an intersection with a low-water line, thence northeasterly and easterly, following the windings of the low-water line, to a point from which point of beginning bears south true, thence south true, 420 feet, more or less, to point of beginning. | Approx. Long. 132°30′ W Lat. 56°26′ N.
(QQQQQQ) Old Edna Bay | Section 28, T. 68 S., R. 76 E., Copper River Meridian | The location begins in Section 28 at a point described as N 55°56′59.3412″ W 133°39′50.9538″, thence easterly to N 55°56′59.5176″ W 133°39′49.1904″, thence southerly to N 55°56′55.7802″ W 133°39′48.0054″, thence westerly to N 55°56′55.6044″ W 133°39′49.7736″, thence northerly to the point of beginning. | Approx. N 55°56′59.3412″ W 133°39′50.9538″.
(RRRRRR) Fick Cove LTF | Sections 17 and 18, T. 49 S., R. 61 E., Copper River Meridian | The location begins in section 17 at a point described as N 57°37′35.5542″ W 135°40′22.5588″, thence southeasterly to N 57°37′33.3804″ W 135° 40′15.9198″, thence southwesterly to N 57°37′29.0922″ W 135°40′20.802″, thence northwesterly to N 57°37′31.2666″ W 135°40′27.4398″, thence northeasterly to the point of beginning. | Approx. N 57°37′35.5542″ W 135°40′22.5588″.
(SSSSSS) Fick Cove Road | Section 18, T. 49 S., R. 61 E., Copper River Meridian | The location begins in Section 18 at a point described as N 57°37′23.1672″ W 135°40′40.9182″, thence easterly to N 57°37′23.7318″ W 135°40′31.6482″, thence southerly to N 57°37′22.0332″ W 135°40′31.2918″, thence westerly to N 57°37′21.468″ W 135°40′40.5582″, thence northerly to the point of beginning. | Approx. N 57°37′23.1672″ W 135°40′40.9182″.
(TTTTTT) Fish Bay | Section 17, T. 52 S., R. 62 E., Copper River Meridian | The location begins in Section 17 at a point described as N 57°21′27.6768″ W 135° 30′35.949″, thence northeasterly to N 57°21′28.9506″ W 135°30′29.8548″, thence southeasterly to N 57°21′27.7596″ W 135°30′29.0016″, thence southwesterly to N 57°21′26.4852″ W 135°30′35.0958″, thence northwesterly to the point of beginning. | Approx. N 57°21′27.6768″ W 135°30′35.949″.
(UUUUUU) Hollis LTF | Section 4, T. 74 S., R. 84 E., Copper River Meridian | The location begins in Section 4 at a point described as N 55°28′51.2724″ W 132°39′13.4532″, thence easterly N 55°28′51.4884″ W 132°39′06.0660″, thence southerly N 55°28′51.4884″ W 132°39′05.9580″, thence westerly N 55°28′50.0700″ W 132°39′13.3452″, thence northerly to the point of beginning. | Approx. N 55°28′51.2724″ W 132°39′13.4532″.
(VVVVVV) Hollis Road | Section 4, T. 74 S., R. 84 E., Copper River Meridian | The location begins in Section 4 at a point described as N 55°28′59.6748″ W 132°39′04.9644″, thence easterly N 55°28′ 59.4084″ W 132°39′01.1304″, thence southerly N 55°28′58.2456″ W 132°39′01.3824″, thence westerly N 55°28′58.5120″ W 132°39′05.2164″, thence northerly to the point of beginning. | Approx. N 55°28′59.6748″ W 132°39′04.9644″.
(WWWWWW) Klu Bay | Section 33, T. 69 S., R. 91 E., Copper River Meridian | The location begins in Section 33 at a point described as N 55°50′41.5068″ W 131°28′02.4924″, thence northeasterly N 55°50′41.6400″ W 131°28′01.6788″, thence southeasterly N 55°50′40.1172″ W 131°28′00.8868″, thence southwesterly N 55°50′39.9804″ W 131°28′01.7004″, thence northwesterly to the point of beginning. | Approx. N 55°50′41.5068″ W 131°28′02.4924″.
(XXXXXX) Patterson Bay—Road Location 1 | Section 5, T. 49 S., R. 60 E., Copper River Meridian | The location begins in Section 5 at a point described as N 57°39′18.2448″ W 135°48′42.4836″, thence easterly N 57°39′ 18.3312″ W 135°48′39.5748″, thence southerly N 57°39′17.6472″ W 135°48′39.5028″, thence westerly N 57°39′17.5608″ W 135°48′42.4116″, thence northerly to the point of beginning. | Approx. N 57°39′18.2448″ W 135°48′42.4836″.
(YYYYYY) Patterson Bay—Road Location 2 | Section 4, T. 49 S., R. 60 E., Copper River Meridian | The location begins in Section 4 at a point described as N 57°39′21.5244″ W 135°48′20.7036″, thence southeasterly N 57°39′21.0564″ W 135°48′19.9764″, thence southwesterly N 57°39′20.0700″ W 135°48′22.1940″, thence northwesterly N 57°39′20.5380″ W 135°48′22.9212″, thence northeasterly to the point of beginning. | Approx. N 57°39′21.5244″ W 135°48′20.7036″.
(ZZZZZZ) Patterson Bay LTF | Section 36, T. 48 S., R. 59 E., and Section 4, T. 49 S., R. 60 E., Copper River Meridian | The location begins in Section 36, T. 48 S., R. 59 E., CRM at a point described as N 57°39′26.6544″ W 135°47′42.2844″, thence easterly N 57°39′27.2520″ W 135°47′30.6852″, thence southerly N 57°39′25.5960″ W 135°47′30.3900″, thence westerly N 57°39′25.0020″ W 135°47′41.9892″, thence northerly to the point of beginning. | Approx. N 57°39′26.6544″ W 135°47′42.2844″.
(AAAAAAA) Thorne Bay—Davidson Landing | Section 34, T. 72 S., R. 84 E., Copper River Meridian | The location begins in Section 34 at a point described as N 55°40′13.1628″, W 132°31′26.3388″, thence easterly to N 55°40′13.2312″, W 132°31′23.8332″, thence southerly to N 55°40′10.9056″, W 132°31′23.6388″, thence westerly to N 55°40′10.8372″, W 132°31′26.1444″, thence northerly to the point of beginning. | Approx. N 55°40′13.1628″, W 132°31′26.3388″.

* * * * *

Chad Van Ormer,
Acting Regional Forester, Alaska Region, U.S. Forest Service.
Joan M. Mooney,
Principal Deputy Assistant Secretary, Policy, Management, and Budget, U.S. Department of the Interior.

[FR Doc. 2024-07012 Filed 4-2-24; 8:45 am]

BILLING CODE 4333-15-P; 3411-15-P